DEPARTMENT OF TRANSPORTATION

Federal Aviation Administration

14 CFR Part 39

[Docket No. 2001-NM-210-AD; Amendment 39-12545; AD 2001-24-28]

RIN 2120-AA64

Airworthiness Directives; McDonnell Douglas Model DC-8 Series Airplanes

AGENCY: Federal Aviation Administration, DOT.

ACTION: Final rule.

SUMMARY: This amendment supersedes an existing airworthiness directive (AD), applicable to certain McDonnell Douglas Model DC-8 series airplanes, that currently requires repetitive visual and eddy current inspections to detect cracking of the rudder pedals adjuster hub assembly, and replacement of the assembly with a new assembly, if necessary. This amendment requires accomplishment of a terminating action for the repetitive inspections. This amendment also adds airplanes to the applicability of the existing AD. This amendment is prompted by the FAA's determination that further rulemaking is necessary. The actions specified by this AD are intended to prevent loss of rudder pedals control and reduction of braking capability.

DATES: Effective January 16, 2002.

The incorporation by reference of McDonnell Douglas DC-8 Alert Service Bulletin A27-275, Revision 1, dated February 3, 1992, was approved previously by the Director of the Federal Register as of January 22, 1993 (57 FR 60115, December 18, 1992).

The incorporation by reference of the remaining service documents is approved by the Director of the Federal Register as of January 16, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Wahib Mina, Aerospace Engineer, Airframe Branch, ANM-120L, FAA, Los Angeles Aircraft Certification Office, 3960 Paramount Boulevard, Lakewood, California 90712; telephone (562) 627-5324; fax (562) 627-5210.

SUPPLEMENTARY INFORMATION: A proposal to amend part 39 of the Federal Aviation Regulations (14 CFR part 39) by superseding AD 92-27-06, amendment 39-8440 (57 FR 60115, December 18, 1992), which is applicable to certain McDonnell Douglas Model DC-8 series airplanes, was published in the Federal Register on July 23, 2001 (66 FR 38203). The action proposed to continue to require repetitive visual and eddy current inspections to detect cracking of the rudder pedals adjuster hub assembly, and replacement of the assembly with a new assembly, if necessary. That action also proposed to require accomplishment of a terminating action for the repetitive inspections, and to add airplanes to the applicability of the existing AD.

Comments

Interested persons have been afforded an opportunity to participate in the making of this amendment. Due consideration has been given to the comment received.

Request To Withdraw Notice of Proposed Rulemaking (NPRM) or Remove Mandatory Requirement for Replacement

The commenter requests that the FAA withdraw the NPRM, since the inspections required by existing AD 92-27-06 provide an appropriate degree of safety assurance. The commenter states that there have been no loss of rudder pedal control incidents reported since the start of the inspections required by AD 92-27-06. The commenter further states that the loss of rudder pedal control by a flightcrew member is a temporary unsafe condition, since the other flightcrew member can immediately control the airplane with his/her rudder pedals. The commenter also states that of the 107 inspections it has performed on DC-8 rudder pedal adjuster hub assemblies since June 1994, no inspections have resulted in finding cracks. The commenter points out that a review of the FAA Service Difficulty Reports database reveals that no DC-8 rudder pedal control has been lost during flight or taxi because of a cracked rudder pedal adjuster hub assembly.

This same commenter suggests in lieu of withdrawing the NPRM to remove the compliance time of “Prior to the accumulation of 15,000 total landings, or within 3,500 landings after the effective date of this AD” in paragraph (e) of the NPRM, so that the replacement requirement is optional.

The FAA does not agree with the commenter to withdraw the NPRM or remove the mandatory replacement requirement. As specified in the “Background” section of the NPRM, the FAA has determined that, based on the results of investigations described in the NPRM and recommendations of the Aging Transport Systems Rulemaking Advisory Committee (ATSRAC), corrective action is necessary to minimize the potential hazards associated with wire and mechanical flight control systems degradation and related causal factors (e.g., inadequate maintenance, contamination, improper repair, and mechanical damage).

In addition, the FAA has determined that long-term continued operational safety will be better assured by modifications or design changes to remove the source of the problem, rather than by repetitive inspections. Long-term inspections may not be providing the degree of safety assurance necessary for the transport airplane fleet. This, coupled with a better understanding of the human factors associated with numerous repetitive inspections, has led the FAA to consider placing less emphasis on special procedures and more emphasis on design improvements. The terminating action required by paragraph (e) of this final rule is consistent with these considerations.

Clarification of Paragraph Reference

Paragraph (c) of the proposed AD states “If no crack is detected as a result of the inspections required by paragraph (a) of this AD, repeat the inspections at intervals not to exceed 3,500 landings.” The FAA's intent was that the repeat inspections be accomplished if no crack is detected as a result of the inspection required by paragraph (a) or (b) of this AD, as indicated in service bulletins referenced in the AD. Therefore, we have revised the final rule accordingly.

Conclusion

After careful review of the available data, including the comments noted above, the FAA has determined that air safety and the public interest require the adoption of the rule with the change previously described. The FAA has determined that this change will neither increase the economic burden on any operator nor increase the scope of the AD.

Cost Impact

There are approximately 264 Model DC-8 series airplanes of the affected design in the worldwide fleet. The FAA estimates that 245 airplanes of U.S. registry will be affected by this AD.

The inspection that is currently required by AD 92-27-06 takes approximately 3 work hours per airplane to accomplish, at an average labor rate of $60 per work hour. Based on these figures, the cost impact of the currently required actions on U.S. operators is estimated to be $44,100, or $180 per airplane, per inspection cycle.

The new actions that are required by this AD will take approximately 8 work hours per airplane to accomplish, at an average labor rate of $60 per work hour. Required parts will cost approximately $4,296 per airplane. Based on these figures, the cost impact of the new requirements of this AD on U.S. operators is estimated to be $1,170,120, or $4,776 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8440 (57 FR 60115, December 18, 1992), and by adding a new airworthiness directive (AD), amendment 39-12545, to read as follows:

2001-24-28 McDonnell Douglas: Amendment 39-12545. Docket 2001-NM-210-AD. Supersedes AD 92-27-06, Amendment 39-8440.

Applicability: Model DC-8 series airplanes, serial numbers 45646 and 45928, and as listed in McDonnell Douglas DC-8 Alert Service Bulletin A27-275, Revision 1, dated February 3, 1992; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To prevent loss of rudder pedals control and reduction of braking capability, accomplish the following:

Inspection

(a) For airplanes listed in McDonnell Douglas DC-8 Alert Service Bulletin A27-275, Revision 1, dated February 3, 1992: Prior to the accumulation of 15,000 landings or within 270 days after January 22, 1993 (the effective date of AD 92-27-06, amendment 39-8440), whichever occurs later, conduct a visual and eddy current inspection to detect cracks of the rudder pedals adjuster hub assembly, part number (P/N) 4616066, in accordance with McDonnell Douglas DC-8 Alert Service Bulletin A27-275, Revision 1, dated February 3, 1992, or Revision 2, dated August 5, 1992; or McDonnell Douglas Alert Service Bulletin DC8-27A275R03, Revision 03, dated April 5, 1996. As of the effective date of this AD only McDonnell Douglas Alert Service Bulletin DC8-27A275R03, Revision 03, dated April 5, 1996, shall be used.

(b) For airplanes having serial numbers 45646 and 45928: Prior to the accumulation of 15,000 total landings, or within 270 days after the effective date of this AD, whichever occurs later, conduct a visual and eddy current inspection to detect cracks of the rudder pedals adjuster hub assembly, P/N 4616066, in accordance with McDonnell Douglas DC-8 Alert Service Bulletin A27-275, Revision 1, dated February 3, 1992, or Revision 2, dated August 5, 1992; or McDonnell Douglas Alert Service Bulletin DC8-27A275R03, Revision 03, dated April 5, 1996. As of the effective date of this AD, only McDonnell Douglas Alert Service Bulletin DC8-27A275R03, Revision 03, dated April 5, 1996, shall be used.

No Crack Found During Inspection Required by Paragraph (a) or (b) of This AD: Repetitive Inspections

(c) If no crack is detected as a result of the inspections required by paragraph (a) or (b) of this AD, repeat the inspections at intervals not to exceed 3,500 landings.

Any Crack Found: Replacement and Repetitive Inspections

(d) If any crack is detected as a result of the inspections required by paragraph (a), (b), or (c) of this AD, prior to further flight, replace the rudder pedals adjuster hub assembly, P/N 4616066, with a new assembly, P/N 5965435-1, in accordance with McDonnell Douglas Alert Service Bulletin DC8-27A275R03, Revision 03, dated April 5, 1996. Accomplishment of the replacement constitutes terminating action for the repetitive inspection requirements of this AD.

Terminating Action

(e) Prior to the accumulation of 15,000 total landings, or within 3,500 landings after the effective date of this AD, whichever occurs later, replace the existing adjuster hub assembly with a new assembly, P/N 5965435-1, per McDonnell Douglas Alert Service Bulletin DC8-27A275R03, Revision 03, dated April 5, 1996. Accomplishment of the replacement constitutes terminating action for the requirements of this AD.

Spares

(f) As of the effective date of this AD, no person shall install an adjuster hub assembly, P/N 4616066, on any airplane.

Alternative Methods of Compliance

(g) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(h) Special flight permits may be issued in accordance with sections 21.197 and 21.199 of the Federal Aviation Regulations (14 CFR 21.197 and 21.199) to operate the airplane to a location where the requirements of this AD can be accomplished.

Incorporation by Reference

(i) The actions shall be done in accordance with McDonnell Douglas DC-8 Alert Service Bulletin A27-275, Revision 1, dated February 3, 1992; McDonnell Douglas DC-8 Alert Service Bulletin A27-275, Revision 2, dated August 5, 1992; or McDonnell Douglas Alert Service Bulletin DC8-27A275R03, Revision 03, dated April 5, 1996; as applicable.

(1) The incorporation by reference of McDonnell Douglas DC-8 Alert Service Bulletin A27-275, Revision 1, dated February 3, 1992, was approved previously by the Director of the Federal Register as of January 22, 1993 (57 FR 60115, December 18, 1992).

(2) The incorporation by reference of the remaining service documents is approved by the Director of the Federal Register in accordance with 5 U.S.C. 552(a) and 1 CFR part 51.

(3) Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(j) This amendment becomes effective on January 16, 2002.

Issued in Renton, Washington, on November 28, 2001.
Vi L. Lipski,
Manager, Transport Airplane Directorate, Aircraft Certification Service.

[FR Doc. 01-30204 Filed 12-11-01; 8:45 am]

BILLING CODE 4910-13-P